DEPARTMENT OF HEALTH AND HUMAN SERVICES

Health Resources and Services Administration

Senior Executive Service Performance Review Board

AGENCY: Health Resources and Services Administration (HRSA), Department of Health and Human Services (HHS).

ACTION: Notice.

SUMMARY: HRSA, an Operating Division of HHS, is publishing a list of persons appointed to serve on the Performance Review Board that oversees the evaluation of performance appraisals for Senior Executive Service members within HRSA for the Fiscal Year 2019 and 2020 review period.

FOR FURTHER INFORMATION CONTACT: Georgia Lyons, Executive Resources, Office of Human Resources, 5600 Fishers Lane, Rm. 12N06C, Rockville, Maryland 20857, Telephone (301) 443-4618.

SUPPLEMENTARY INFORMATION: Title 5, U.S.C. 4314(c)(4) of the Civil Service Reform Act of 1978, Public Law 95-454, requires that the appointment of Performance Review Board Members be published in the Federal Register. The following are persons appointed to serve on the HRSA Performance Review Board:

Leslie Atkinson

Tonya Bowers

Adriane Burton

Tina Cheatham

Laura Cheever

Natasha Coulouris

Cheryl Dammons

Elizabeth DeVoss

Diana Espinosa

Catherine Ganey

Alexandra Garcia

Heather Hauck

Laura Kavanagh

Martin Kramer

Rimas Liogys

Torey Mack

James Macrae

Susan Monarez

Thomas Morris

Kerry Nesseler

Luis Padilla

Wendy Ponton

Michael Warren

George Sigounas,
Administrator.

[FR Doc. 2019-12819 Filed 6-17-19; 8:45 am]

BILLING CODE 4165-15-P